DEPARTMENT OF HOMELAND SECURITY

Federal Emergency Management Agency

44 CFR Part 67

[Docket No. FEMA-P-7919]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., CFM, Acting Section Chief, Engineering Management Section, Mitigation Division, 500 C Street, SW., Washington, DC 20472, (202) 646-3151.

SUPPLEMENTARY INFORMATION: FEMA proposes to make determinations of BFEs and modified BFEs for each community listed below, in accordance with section 110 of the Flood Disaster Protection Act of 1973, 42 U.S.C. 4104, and 44 CFR 67.4(a). These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director certifies that this proposed rule is exempt from the requirements of the Regulatory Flexibility Act because proposed or modified BFEs are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

Flooding source(s) | Location of referenced elevation | + Elevation in feet (NGVD) * Elevation in feet(NAVD) # Depth in feet above ground: Effective | + Elevation in feet (NGVD) * Elevation in feet(NAVD) # Depth in feet above ground: Modified | Communities affected
Bossier Parish, Louisiana (Unincorporated Areas)
Alligator Bayou | At the confluence with Flat River | *163 | *160 | City of Bossier City.
| Approximately 1,550 feet downstream of U.S. Highway 79/80 Eastbound | *163 | *162 |
Benoit Bayou | At the confluence with Macks Bayou | *166 | *168 | City of Bossier City, Bossier Parish, (Unincorporated Areas).
| Segment G and Macks Bayou Segment H
| Approximately 12,520 feet upstream of Brownless Road | None | *173
Bossier Ditch | Approximately 60 feet upstream of the confluence with Cooper Bayou and Macks Bayou Segment F | *160 | *159 | City of Bossier City.
| Approximately 180 feet upstream of Benton Road | None | *170
Fifi Bayou | Just upstream of U.S. Interstate 20 | None | *174 | Bossier Parish (Unincorporated Areas).
| Approximately 9,000 feet upstream of Windfield Road | None | *190
Flat River | Just upstream of State Route 527 | None | *154 | City of Bossier City, Bossier Parish (Unincorporated Areas).
| Approximately 500 feet upstream of U.S. Interstate 220 Westbound | *165 | *164
Flat River Drainage Canal | Just upstream of Coy Road | *166 | *165 | City of Bossier City, Bossier Parish (Unincorporated Areas).
| Approximately 400 feet upstream of Airline Drive | *173 | *174
Flat River (Upper Reach) | Approximately 540 feet upstream of the confluence with Flat River Drainage Canal | *176 | *175 | Bossier Parish (Unincorporated Areas).
| Approximately 4,830 feet upstream of the confluence of Willow Chute Lateral | *179 | *177
Herndon Ditch | At the confluence with Flat River | *156 | *158 | City of Bossier City, Bossier Parish (Unincorporated Areas).
| Approximately 1,300 feet downstream of the confluence of Macks Bayou Segment B | *157 | *158
Lake Bistineau | Entire shoreline within Bossier Parish | None | *148 | Bossier Parish (Unincorporated Areas).
Macks Bayou Segment A | At the confluence with Flat River | *156 | *157 | City of Bossier City, Bossier Parish (Unincorporated Areas).
| Approximately 25 feet upstream of Golden Meadows Drive | *156 | *157
Macks Bayou Segment E | Approximately 1,025 feet upstream of the confluence with Bossier Ditch | *162 | *163 | City of Bossier City.
| Approximately 2,010 feet upstream of the confluence with Bossier Ditch | *162 | *163
Macks Bayou Segment G | Approximately 800 feet upstream of Kansas City Southern Railray | *166 | *167 | City of Bossier City.
| At the confluence with Benoit Bayou and junction with Macks Bayou Segment H | *166 | *168
Macks Bayou Segment H | Approximately 190 feet upstream of the confluence with Flat River | *165 | *168 | City of Bossier City, Bossier Parish (Unincorporated Areas).
| At the confluence of Benoit Bayou and divergence of Macks Bayou Segment G | *166 | *168
Racetrack Bayou | At the confluence with Willow Chute | None | *166 | City of Bossier City.
| At U.S. Interstate 220 Westbound and divergence from Macks Bayou Segment H | *166 | *168
Red Chute Bayou | Approximately 12,400 feet upstream of Smith Road | None | *154 | City of Bossier City, Bossier Parish (Unincorporated Areas).
| Approximately 4,050 feet upstream of Dogwood Trail | *165 | *169
Willow Chute Lateral | At the confluence with Flat River | *178 | *177 | Bossier Parish (Unincorporated Areas).
| Approximately 4,930 feet upstream of the confluence with Flat River (Upper Reach) | *178 | *177
ADDRESSES
City of Bossier City, Bossier Parish, Louisiana
Maps are available for inspection at City Hall, 620 Benton Road, Bossier City, Louisiana.
Send comments to The Honorable Lorenz “Lo” Walker, Mayor, City of Bossier City, City Hall, 620 Benton Road, Bossier City, Louisiana 71111.
Bossier Parish, Louisiana (Unincorporated Areas)
Maps are available for inspection at the Police Jury Office, 204 Burt Boulevard, Room 108, Benton, Louisiana.
Send comments to The Honorable William R. Altimus, Bossier Parish Administrator, Post Office Box 70, 204 Burt Boulevard, Room 108, Benton, Louisiana 71006.
* North American Veritical Datum of 1988.

(Catalog of Federal Domestic Assistance No. 83.100, “Flood Insurance.”)

Dated: July 6, 2006.
David I. Maurstad,
Director, Mitigation Division, Federal Emergency Management Agency, Department of Homeland Security.

[FR Doc. E6-11391 Filed 7-18-06; 8:45 am]

BILLING CODE 9110-12-P